DEPARTMENT OF HEALTH AND HUMAN SERVICES

Centers for Medicare and Medicaid Services

[Document Identifier: CMS-R-290 and CMS-379]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Program: Process for Making National Coverage Determinations; Form No.: CMS-R-290 (OMB# 0938-0776); Use: These information collection requirements provide the process CMS uses to make a national coverage decision for a specific item or service under sections 1862 and 1871 of the Social Security Act. This streamlines our decision making process and increases the opportunities for public participation in making national coverage decisions.; Frequency: Other: as needed; Affected Public: Business or other for-profit, not-for-profit institutions; Number of Respondents: 200; Total Annual Responses: 200; Total Annual Hours: 8,000.

2. Type of Information Collection Request: Extension of a currently approved collection; Title of Information Collection: The Financial Statement of Debtor and Supporting Regulations in 42 CF Section 405.376; Form No.: CMS-379 (OMB# 0938-0270); Use: This form is used to collect financial information which is needed to evaluate requests from physicians/suppliers to pay indebtedness under an extended repayment schedule, or to compromise a debt less than the full amount; Frequency: Other: as needed; Affected Public: Business or other for-profit, individuals or households; Number of Respondents: 500; Total Annual Responses: 500; Total Annual Hours: 1,000.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: March 25, 2004.
John P. Burke, III,
Paperwork Reduction Act Team Leader, Office of Strategic Operations and Strategic Affairs, Division of Regulations Development and Issuances.

[FR Doc. 04-7421 Filed 4-1-04; 8:45 am]

BILLING CODE 4120-03-P